DEPARTMENT OF HOMELAND SECURITY

U.S. Customs and Border Protection

[CBP Dec. No. 17-09]

Expansion of Global Entry Eligibility to Citizens of the Republic of Colombia, Citizens of the Republic of Singapore, and Citizens of Switzerland

AGENCY: U.S. Customs and Border Protection; Department of Homeland Security.

ACTION: General notice.

SUMMARY: U.S. Customs and Border Protection (CBP) operates the Global Entry international trusted traveler program at most major U.S. airports. Global Entry allows pre-approved participants dedicated CBP processing into the United States using Global Entry kiosks located at designated airports. This document announces that CBP is expanding eligibility for Global Entry to include citizens of the Republic of Colombia, citizens of the Republic of Singapore, and citizens of Switzerland. All of these individuals also must satisfy the requirements to participate in the Global Entry program. Additionally, this document announces that U.S. citizens who participate in Global Entry will have the option to apply for membership in Singapore's enhanced-Immigration Automated Clearance System (e-IACS).

DATES: Applications will be accepted from qualified citizens of the Republic of Colombia, qualified citizens of the Republic of Singapore, and qualified citizens of Switzerland beginning on August 14, 2017.

FOR FURTHER INFORMATION CONTACT: Garret Conover, Office of Field Operations, (202) 325-4062, Garret.A.Conover@cbp.dhs.gov.

SUPPLEMENTARY INFORMATION:

Background

Global Entry Program

Global Entry is a voluntary program that provides pre-approved travelers arriving in the United States dedicated CBP processing at Global Entry kiosks located at designated airports. In a final rule published in the Federal Register (77 FR 5681) on February 6, 2012, CBP promulgated the regulation (8 CFR 235.12) to establish Global Entry as an ongoing voluntary regulatory program. Section 235.12 contains a description of the program, the eligibility criteria, the application and enrollment process, and the redress procedures. Travelers who wish to participate in Global Entry must apply via the Global On-Line Enrollment System (GOES) Web site, https://goes-app.cbp.dhs.gov, and pay the applicable fee. Applications for Global Entry must be completed and submitted electronically. The list of airports with Global Entry kiosks is available at http://www.globalentry.gov.

Eligibility for participation in Global Entry is limited to U.S. citizens, U.S. nationals, U.S. lawful permanent residents, and certain nonimmigrant aliens from countries that have entered into arrangements with CBP regarding international trusted traveler programs. Specifically, certain nonimmigrant aliens from countries that have entered into arrangements with CBP concerning international trusted traveler programs may be eligible to apply for participation in Global Entry. CBP announces the arrangement by publication of a notice in the Federal Register. The notice includes the country, the scope of eligibility of nonimmigrant aliens from that country (e.g., whether only citizens of the foreign country or citizens and noncitizens are eligible) and other conditions that may apply based on the terms of the arrangement. See 8 CFR 235.12(b)(1)(ii). Since establishing the Global Entry program, CBP has announced several expansions of the program.¹

¹ For further information see 75 FR 82202, December 29, 2010 (utilization of Global Entry kiosks by NEXUS and SENTRI participants); 78 FR 48706, August 9, 2013 (expansion to certain citizens of the Republic of Korea and expansion through limited pilots to a number of citizens from the United Kingdom, the State of Qatar and Germany); 80 FR 1509, January 12, 2015 (expansion to certain citizens of Panama); 81 FR 7822, February 16, 2016 (expansion to all German citizens); and, 81 FR 45170, July 12, 2016 (expansion to all citizens of the United Kingdom).

CBP may deny applicants enrollment in the Global Entry program for various reasons. An individual who is inadmissible to the United States under U.S. immigration law or has, at any time, been granted a waiver of inadmissibility or parole is ineligible to participate in Global Entry. CBP will automatically reject applications from such individuals. CBP also may reject an application for Global Entry if an applicant has ever been arrested for, or convicted of, a criminal offense, or if the individual has ever been found in violation of customs or immigration laws, or of any criminal law. Additionally, CBP will not accept an applicant for participation in Global Entry if CBP determines that the applicant presents a potential risk of terrorism, or criminality (including smuggling), or if CBP cannot sufficiently determine that the applicant meets all the program eligibility criteria. The eligibility criteria are set forth in more detail in the Global Entry final rule and 8 CFR 235.12. See also http://www.globalentry.gov.

The Republic of Colombia

On April 27, 2015, the U.S. Department of Homeland Security, CBP and the Ministry of Foreign Affairs of the Republic of Colombia signed a Joint Statement regarding the development of an initiative involving their respective international trusted traveler programs. In the Joint Statement, the parties agreed to cooperate in the expansion of Global Entry to certain eligible citizens of Colombia and to mutually develop procedures for the implementation and operation of the expansion. Based on this Joint Statement, CBP is announcing that citizens of the Republic of Colombia are eligible to apply for participation in Global Entry.

In order to apply for Global Entry, citizens of the Republic of Colombia must first complete the on-line application located on the GOES Web site, pay the nonrefundable Global Entry fee, and satisfy all the requirements of Global Entry. These applicants will then undergo a thorough risk assessment by both CBP and the Republic of Colombia's Ministry of Foreign Affairs and an interview with CBP. The vetting criteria were mutually developed and are consistent with each agency's applicable domestic laws and policies.

Once the risk assessment has been completed, CBP will notify the applicant of the results and next steps necessary to complete the enrollment. More information on how to apply is available at www.globalentry.gov.

U.S. Citizens' Participation in Colombia's Trusted Traveler Program

Consistent with the Joint Statement, U.S. citizens who participate in Global Entry will have the option to apply for participation in Colombia's trusted traveler program, once such program is established. Once the program is established, CBP plans to announce it on CBP's Web site at http://www.globalentry.gov.

The Republic of Singapore

On December 1, 2014, the U.S. Department of Homeland Security, CBP and the Ministry of Home Affairs for the Republic of Singapore, Immigration & Checkpoints Authority signed a Joint Statement regarding the development of an initiative involving their respective international trusted traveler programs. In the Joint Statement, the parties agreed to cooperate in the expansion of their respective trusted traveler programs to eligible citizens of Signapore and the United States and to mutually develop procedures for the implementation and operation of the expansions. Based on this Joint Statement, CBP is announcing that citizens of the Republic of Singapore are eligible to apply for participation in Global Entry.

In order to apply for Global Entry, citizens of the Republic of Singapore must first complete the on-line application located on the GOES Web site, pay the nonrefundable Global Entry fee, and satisfy all the requirements of Global Entry. These applicants will then undergo a thorough risk assessment by both CBP and the Republic of Singapore's Immigration & Checkpoints Authority and an interview with CBP. The vetting criteria were mutually developed and are consistent with each agency's applicable domestic laws and policies.

Once the risk assessment has been completed, CBP will notify the applicant of the results and next steps necessary to complete the enrollment. More information on how to apply is available at www.globalentry.gov.

U.S. Citizens' Participation in Singapore's Enhanced-Immigration Automated Clearance System (e-IACS)

Pursuant to the Joint Statement, U.S. citizens who are Global Entry participants will have the option to apply for Singapore's enhanced-Immigration Automated Clearance System (e-IACS). e-IACS is a trusted traveler program in Singapore that uses automated kiosks to offer expedited processing for travelers through clearance formalities when entering the Republic of Singapore. All U.S. applicants must apply for e-IACS directly with the Government of Singapore, be thoroughly vetted by the Republic of Singapore, meet specific passport and travel qualifications, and appear in person at an e-IACS enrollment center to complete the enrollment process. There is no fee for participation in e-IACS. The Republic of Singapore will notify the U.S. applicant directly about whether he or she was approved for e-IACS. More information about how to apply for e-IACS is available at https://ltpass.ica.gov.sg/ttp/.

Switzerland

On December 16, 2015, the U.S. Department of Homeland Security, CBP and the Federal Department of Justice and Police of the Swiss Confederation signed a Joint Statement regarding the development of an initiative involving their respective international trusted traveler programs. In the Joint Statement, the parties agreed to cooperate in the expansion of Global Entry to certain eligible citizens of Switzerland and to mutually develop procedures for the implementation and operation of the expansion. Based on this Joint Statement, CBP is announcing that citizens of Switzerland are eligible to apply for participation in Global Entry.

In order to apply for Global Entry, citizens of Switzerland must first obtain clearance from the Swiss Federal Office of Police. CBP will not process applications from citizens of Switzerland unless such clearance has been obtained. To apply for clearance, an applicant must submit an application and pay a nonrefundable fee to the Swiss Federal Office of Police. The Swiss Federal Office of Police will notify the applicants whether clearance has been granted.

After the applicant has obtained the necessary clearance, the applicant must complete the Global Entry on-line application located on the GOES Web site, pay the nonrefundable Global Entry fee, and satisfy all the requirements of Global Entry. These applicants will then undergo a thorough risk assessment by both CBP and the Federal Department of Justice and Police of the Swiss Confederation and an interview with CBP. The vetting criteria were mutually developed and are consistent with each agency's applicable domestic laws and policies.

After the risk assessment has been completed, CBP will notify the applicant of the results and next steps necessary to complete the enrollment. More information on how to apply is available at www.globalentry.gov.

U.S. Citizens' Participation in Switzerland's Trusted Traveler Program

Consistent with the Joint Statement, U.S. citizens who participate in Global Entry will have the option to apply for participation in Switzerland's trusted traveler program, once such program is established. Once the program is established, CBP plans to announce it on CBP's Web site at http://www.globalentry.gov.

Dated: August 8, 2017.
Todd C. Owen,
Executive Assistant Commissioner, Office of Field Operations.

[FR Doc. 2017-17077 Filed 8-11-17; 8:45 am]

BILLING CODE 9111-14-P